DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: State and Local Construction Coverage Study.

Form Number(s): SLUE-007(A), SLUE-007(B).

Agency Approval Number: None.

Type of Request: New collection.

Burden: 5,500 hours.

Number of Respondents: 5,500.

Avg. Hours Per Response: 1 hour.

Needs and Uses: The U.S. Census Bureau is requesting a new one time collection for the State and Local Construction Coverage Study. The Census Bureau collects monthly Value in Place (VIP) data on State and local government construction in the Construction Progress Reporting Surveys (CPRS) (OMB# 0607-0153). We also collect fiscal year data on similar construction in the Annual Survey of Government Finance (ASGF) (OMB # 0607-0585). It is expected that these estimates should be comparable on a fiscal basis; nevertheless, they have continued to differ significantly during the past decades. One major source of the differences is the undercoverage of the desired universe by the sampling frame used in the CPRS. The F.W. Dodge Division of McGraw-Hill Information Systems Company identifies and lists projects started by State and local governments nationwide. We select a sample of projects from this list for the CPRS. Due to the differences in the level of coverage by value and geographical area, various projects have no chance of being selected for the CPRS.

The most recent evaluation of this undercoverage was done in 1988, producing an undercoverage estimate of 18 percent. The continuing difference on the fiscal year basis between the CPRS and the ASGF indicates the need for a reevaluation of the sampling frame coverage.

We will utilize a mailout/mailback strategy to collect the data. Questionnaires will be mailed out in two waves (wave 1 to half of the sampled agencies and wave 2 to the other half) three months apart. Nonresponse followup will be conducted by telephone beginning 30 days after the initial mailout. We will not publish the results of this study, but we will use the factors determined by the study to adjust the final weighted estimates from the CPRS.

We will conduct this study on a one time basis. The Census Bureau will use the information collected for evaluation purposes and survey improvement through the adjustment of the State and local construction VIP estimate by the estimated coverage rate. The consequence for not conducting an undercoverage evaluation will be that the Census Bureau will produce less accurate estimates for the State and local government construction VIP. The Bureau of Economic Analysis uses the CPRS estimates to develop the construction components for input to the Gross Domestic Product (GDP) accounts. Other government agencies such as the Council of Economics Advisers, the Federal Reserve Bank Board, and the Department of Treasury use these estimates in making policy decisions.

Affected Public: State, local, or tribal government.

Frequency: One time.

Respondent's Obligation: Voluntary.

Legal Authority: Title 13 U.S.C. 161 and 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: April 22, 2004.
Madeleine Clayton,
Management Analyst, Office of the Chief Information Officer.

[FR Doc. 04-9609 Filed 4-27-04; 8:45 am]

BILLING CODE 3510-07-P